DEPARTMENT OF COMMERCE

National Oceanic and Atmospheric Administration

[I.D. 061405D]

Marine Mammals; File No. 358-1787 and Permit No. 821-1588-02

AGENCY: National Marine Fisheries Service (NMFS), National Oceanic and Atmospheric Administration (NOAA), Commerce.

ACTION: Receipt of applications.

SUMMARY: Notice is hereby given that the following applicants have applied in due form for a permit or permit amendment to conduct research on marine mammals:

File No. 358-1787: Alaska Department of Fish and Game, D ivision of Wildlife Conservation, 1255 West 8th Street, Juneau, AK 99802 (Principal Investigator: Robert Smalls, Ph.D.); and

Permit No. 821-1588-02: Texas A&M University, Department of Marine Biology, 5007 Avenue U, Galveston, TX 77551 (Principal Investigator: Randall Davis, Ph.D.).

DATES: Written, telefaxed, or e-mail comments must be received on or before July 28, 2005.

ADDRESSES: The applications and related documents are available for review upon written request or by appointment in the following office(s):

Permits, Conservation and Education Division, Office of Protected Resources, NMFS, 1315 East-West Highway, Room 13705, Silver Spring, MD 20910; phone (301)713-2289; fax (301)427-2521;

Files 358-1787 and 821-1588: Assistant Regional Administrator for Protected Resources, Alaska Region, NMFS, P.O. Box 21668, Juneau, AK 99802-1668; phone (907)586-7235; fax (907)586-7012; and

File 821-1588: Assistant Regional Administrator for Protected Resources, Southeast Region, NMFS, 263 13th Avenue South, St. Petersburg, FL 33701, phone (727)824-5312; fax (727)824-5309. Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on these particular requests would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 358-1787 or 821-1588.

FOR FURTHER INFORMATION CONTACT: Ruth Johnson or Tammy Adams (301)713-2289.

SUPPLEMENTARY INFORMATION: The subject permit and permit amendment are requested under the authority of the Marine Mammal Protection Act of 1972, as amended (MMPA; 16 U.S.C. 1361 et seq.), the Regulations Governing the Taking and Importing of Marine Mammals (50 CFR part 216), and the Fur Seal Act of 1966, as amended (16 U.S.C. 1151 et seq.).

Permit Application

File No. 358-1787: The ADF&\G has requested a permit to conduct scientific research on harbor seals (Phoca vitulina), spotted seals (P. largha), ringed seals (P. hispida), ribbon seals (P. fasciata) and bearded seals (Erignathus barbatus). The seals would be captured, handled, sampled, tagged and released. The overall objective is to describe the ecology and behavior of these seal species. Harbor seals are the primary species to be studied to: monitor harbor seal population trends in Alaska, describe the movements, diving behavior, and haulout patterns; determine feeding habits and prey requirements; assess health status and physiology; and examine life history parameters. The applicant requests authority for incidental mortality of five harbor seals and one each of the ice seals annually. Seals would be incidentally harassed during capture activities and fecal collection.

Permit Amendment

Permit No. 821-1588-02 authorizes the Holder to capture, sample, handle, and tag Weddell seals (Leptonychotes weddelli) on McMurdo Sound, Antarctica, and elephant seals (Mirounga angustirostris) on Ano Nuevo Island, California. The Permit also authorizes the Holder to approach, photograph, biopsy sample, and tag sperm whales (Physeter macrocephalus), conduct Level B harassment activities on small cetaceans in the Gulf of Mexico, and import/export marine mammal parts.

The Holder now requests to amend the permit to allow capture, sampling, handling and tagging of Northern fur seals (Callorhinus ursinus) on the Pribilof Islands, Alaska. The objective of this study is to characterize the movements, foraging behavior and habitat-associations of northern fur seal pups during their first winter at sea. Concurrent with the publication of this notice in the Federal Register, NMFS is forwarding copies of this application to the Marine Mammal Commission and its Committee of Scientific Advisors.

Dated: June 16, 2005.
Stephen L. Leathery,
Chief, Permits, Conservation and Education Division, Office of Protected Resources, National Marine Fisheries Service.

[FR Doc. 05-12753 Filed 6-27-05; 8:45 am]

BILLING CODE 3510-22-S